DEPARTMENT OF JUSTICE

Notice of Lodging of Consent Decree for Relief Under the Comprehensive Environmental Response, Compensation, and Liability Act (CERCLA) of 1980

Under 28 CFR 50.7, notice is hereby given that on May 16, 2003, a proposed Consent Decree resolving the United States' claims in United States of America v. Edward Schwarz, et al., Civil Action No. 1:02-CV-568, was lodged with the United States District Court for the Western District of Michigan.

In this action the United States sought recovery of response costs incurred in performing a removal action at the Orbit Enterprise Superfund Site located at 344 through 368 Burnham Street in Battle Creek, Michigan (“the Site”), pursuant to section 107(a) of the Comprehensive Environmental Response, Compensation, and Liability of 1980, as amended (“CERCLA”), 42 U.S.C. 9607(a). The United States asserts that Donald and Charlotte Walter, whose estates are now represented by the defendants, owned and operated the Site during the time that hazardous substances were released at the Site.

Pursuant to the Consent Decree, the defendants will pay the United States $400,000 of the $725,202.97 in past response costs incurred by the EPA (including administrative, enforcement, and indirect costs) in performing a removal action at the Site. This payment will be due within 30 days after entry of the Consent Decree, and will resolve the United States' cost recovery claim the Walters' liability for failing to respond to an EPA information request issued pursuant to section 104(e) of CERCLA, and the EPA lien previously placed on the Site property.

The Department of Justice will receive for a period of thirty (30) days from the date of this publication comments relating to the Consent Decree. Comments should be addressed to the Assistant Attorney General, Environment and Natural Resources Division, PO Box 7611, U.S. Department of Justice, Washington, DC 20044-7611, and should refer to United States of America v. Edward Schwarz, et al., Civil Action No. 1:02-CV-568, DOJ Ref. No. 90-11-3-07524.

The Consent Decree may be examined at the Office of the United States Attorney, 330 Ionia Avenue NW., Grand Rapids, MI 49503, and at U.S. EPA, Region 5, 77 West Jackson Boulevard, Chicago, IL 60604. During the public comment period, the Consent Decree may also be examined on the following Department of Justice Web site, http://www.usdoj.gov/enrd/open.html. a copy of the Consent Decree may also be obtained by mail from the Consent Decree Library, PO Box 7611, U.S. Department of Justice, Washington, DC 20044-7611, or by faxing or e-mailing a request to Tonia Fleetwood (tonia.fleetwood@usdoj.gov), fax no. (202) 514-0097, phone confirmation number (202) 514-1547. In requesting a copy, please enclose a check in the amount of $6.25 payable to the U.S. Treasury.

William Brighton,
Assistant Section Chief, Environmental Enforcement Section, Environment and Natural Resources Division.

[FR Doc. 03-14823 Filed 6-11-03; 8:45 am]

BILLING CODE 4410-15-M